DEPARTMENT OF TRANSPORTATION

National Highway Traffic Safety Administration

Highway Safety Program Guidelines

ACTION: Notice of availability.

AGENCY: National Highway Traffic Safety Administration (NHTSA), Department of Transportation.

SUMMARY: This notice revises four of the existing highway safety uniform guidelines to better reflect NHTSA's commitment to promoting highway safety programs that are based on traffic safety data. The revisions will also align these guidelines with a recent Executive order. The guidelines are Guideline No. 7: Judicial and Court Services; Guideline No. 8: Impaired Driving; Guideline No. 12: Prosecutor Training; Guideline No. 20: Occupant Protection.

DATES: The revised guidelines become effective on June 3, 2025.

FOR FURTHER INFORMATION CONTACT: Jane Terry, Director, Office of Impaired Driving and Occupant Protection, NPD-100, National Highway Traffic Safety Administration, 1200 New Jersey Avenue SE, Washington, DC 20590; Telephone: (202) 366-0179, jane.terry@dot.gov.

SUPPLEMENTARY INFORMATION:

I. Background

Section 402 of title 23 of the United States Code requires the Secretary of Transportation to promulgate uniform guidelines for State highway safety programs.¹ The uniform guidelines serve as a resource that States can use in formulating their highway safety programs supported with section 402 and section 405 grant funds as well as safety activities funded from other sources. The guidelines provide a framework for developing a balanced highway safety program and serve as a tool with which States can assess the effectiveness of their own programs. Uniform Guideline Number 20: Occupant Protection serves as the basis for NHTSA-facilitated occupant protection program assessments that many States rely on to improve their programs and to apply for Section 405(b) Occupant Protection Grant funds. Uniform Guideline Number 7: Judicial and Court Services, Number 8: Impaired Driving, and Number 12: Prosecutor Training serve as the basis for NHTSA-facilitated impaired driving program assessments that some States rely on to improve their programs and to apply for Section 405(d) Impaired Driving Countermeasures Grant funds. NHTSA encourages States to use these guidelines and build upon them to optimize the effectiveness of highway safety programs conducted at the State and local levels.

¹ This responsibility is delegated to NHTSA at 49 CFR 1.95(e).

Under the recent Executive Order 14151 (Order), “Ending Radical and Wasteful Government DEI Programs and Preferencing,” agencies are instructed to align agency guidance with the policy set forth in that Order. NHTSA makes limited technical revisions to four of the uniform guidelines to meet the requirements of the Order. These limited revisions shift focus away from broad references to demographic or diverse groups and towards at-risk populations and State safety needs as identified by highway safety data. At-risk populations are any group that is at increased risk of serious injury or death from a traffic crash. The impacted uniform guidelines are Guideline No. 7: Judicial and Court Services (March 2009); Guideline No. 8: Impaired Driving (November 2006); Guideline No. 12: Prosecutor Training (March 2009); and Guideline No. 20: Occupant Protection (November 2006).

NHTSA reminds States that the guidance provided in these Uniform Guidelines is not legally binding in its own right and will not be relied upon by the Department as a separate basis for affirmative enforcement action or other administrative penalty. Conformity with the guidance document (as distinct from existing statutes and regulations) is voluntary only, and nonconformity will not affect rights and obligations under existing statues and regulations.

The revised guidelines are printed in full below. All highway safety guidelines are available on NHTSA's website at https://www.nhtsa.gov/laws-regulations/guidance-documents.

Highway Safety Program Guideline No. 7 Judicial and Court Services (March 2025)

Each State, in cooperation with political subdivisions and Tribal governments, should develop and implement a comprehensive, highway safety program, reflective of State traffic safety needs, as identified by the data, to achieve a significant reduction in traffic crashes, fatalities, and injuries on public roads. Each State should have a comprehensive judicial services program as part of its overall highway safety program. Such judicial services programs should support courts in the competent and effective adjudication of both administrative and statutory law cases. Judicial services programs should, consistent with ethical and professional requirements, promote judicial outreach activity to reduce traffic crashes and resultant fatalities and injuries. This document describes the four key components of State judicial services programs and the specific activities needed to implement those components. Additional information on judicial outreach is addressed in Highway Safety Guideline No. 8, Impaired Driving.

I. Program Management

Program planning, implementation, and coordination are essential for achieving and sustaining State traffic enforcement and adjudication functions. The State Highway Safety Office (SHSO), in conjunction with State and local court administrators, chief judges, and judicial educators should ensure that State traffic safety judicial education programs are well planned and coordinated. State SHSOs should provide leadership, training, and technical assistance to:

• Implement and integrate regular traffic law and safety-related judicial education in judicial education programs for all judges;

• Generate broad-based support for traffic safety programs by informing all stakeholders, including court administrators and the judges they serve, of comprehensive highway safety plans for traffic enforcement;

• Coordinate traffic safety programs to include Commercial Motor Vehicle (CMV) safety activities such as the Motor Carrier Safety Assistance Program;

• Promote the dissemination of NHTSA-supported judicial traffic safety and education courses through coordination with State judicial educators and nationally based institutions such as the National Center for State Courts, National Council of Juvenile and Family Court Judges, and the National Judicial College; and

• Support the development and ethical implementation of judicial education programs for State, local, administrative, and Tribal courts that will accomplish the following objectives:

○ Utilize enabling legislation and regulations to provide the public with effective and efficient court services;

○ Provide the impetus for judges to be thoroughly educated on all facets of motor vehicle law;

○ Develop cooperative relationships with other government branches, agencies, and entities, as well as community organizations and traffic safety stakeholders; and

○ Establish qualitative and quantitative performance measures by which the delivery of services can be evaluated.

II. Resource Management

The SHSO should coordinate with the courts to develop plans that identify the resources necessary to effectively provide efficient traffic law-related services throughout the criminal justice system. The plans should include specific components concerning the allocation of funding, personnel, and facilities and:

• Periodic assessment of traffic law-related service demands, and the resources needed to serve the needs of the public;

• Development of traffic law-related court service plans that address budgetary requirements, staff allocation, and facilities requirements; and

• Employment of efficient accounting and data processing systems to facilitate prompt and accurate generation, retrieval, and sharing of information and records.

III. Training and Education

Training and education are essential to support and maintain the delivery of traffic law-related services by the judicial branch of government. To be effective adjudicators, and serve the needs of the public, judges must receive regular education and training of the highest caliber. Judicial education and training should be promoted and, where appropriate, presented by the SHSO or other training entities with experienced faculties in the area of traffic safety, including law and procedure. Judicial education and training should be:

• Adequately funded and where possible compulsory as a requirement to maintaining service in office;

• Provided by State or nationally based judicial education and training entities with experienced faculties in area of traffic-related law and procedure;

• Inclusive of education components consistent with models developed by the American Bar Association, for example the Code of Judicial Ethics and the Rules of Professional Conduct;

• Inclusive of case management components so as to foster productivity and the prompt and efficient disposition of cases;

• Specialized as to curriculum so as to address the needs of both statutory and administrative judges as well as hearing officers; and

• Assessed regularly so as to ensure that education components address specialized traffic enforcement skills, techniques, or programs such as DWI/Drug Courts.

IV. Data and Evaluation

The SHSO, in conjunction with court administrators, should develop a comprehensive evaluation program to measure progress toward established project goals and objectives. Utilizing comprehensive evaluation programs, the SHSO should effectively plan and implement statewide, county, local, and Tribal traffic safety programs. Such programs should have as objectives the optimization of limited resource allocation and should measure the impact of traffic enforcement on court resources. Data that are collected should include case disposition summaries and reports, and other relevant workload information. Court administrators should:

• Include evaluation components in initial program planning so as to ensure that data will be available for evaluation;

• Ensure that adequate resources and personnel are allocated to program planning and data collection;

• Regularly report results of program evaluations to project and program managers, legislative decision-makers, and to the public;

• Utilize results to guide future activities and to assess in justifying resources to governing bodies;

• Conduct surveys to assist in determining court and program effectiveness, including surveys that measure public knowledge and attitudes about court programs;

• Evaluate the effectiveness of services provided in support of priority safety programs; and

• Maintain and report court generated data to appropriate repositories through the use of effective records programs that:

○ Provide records rapidly and accurately;

○ Provide routine compilations of data for management use in the decision-making process;

○ Provide data for operational planning and execution;

○ Interface with a variety of data systems, including statewide traffic safety records systems that are accessible by other State and local governmental entities, agencies, and courts;

○ Provide for the evidentiary integrity of information so as to insure its admissibility in subsequent court and administrative hearing proceedings; and

○ Work with court administrators to use the traffic court functional standards that are available through the National Center for State Courts.

Highway Safety Program Guideline No. 8 Impaired Driving (March 2025)

Each State, in cooperation with its political subdivisions and Tribal governments and other parties as appropriate, should develop and implement a comprehensive highway safety program, reflective of State traffic safety needs, as identified by the data, to achieve a significant reduction in traffic crashes, fatalities, and injuries on public roads. The highway safety program should include an impaired driving component that addresses highway safety activities related to impaired driving. (Throughout this guideline, the term impaired driving means operating a motor vehicle while affected by alcohol and/or other drugs, including prescription drugs, over-the-counter medicines, or illicit substances.) This guideline describes the components that a State impaired driving program should include and the criteria that the program components should meet.

I. Program Management and Strategic Planning

An effective impaired driving program should be based on strong leadership, sound policy development, program management and strategic planning, and an effective communication program. Program efforts should be data-driven, focusing on populations and geographic areas that are most at risk, and science-based, determined through independent evaluation as likely to succeed. Programs and activities should be guided by problem identification and carefully managed and monitored for effectiveness. Adequate resources should be devoted to the problem and costs should be borne, to the extent possible, by impaired drivers. Each State should include the following as part of its impaired driving program:

• Task Forces or Commissions: Convene Driving While Impaired (DWI) task forces or commissions to foster leadership, commitment, and coordination among all parties interested in impaired driving issues, including both traditional and non-traditional parties, such as highway safety enforcement, criminal justice, driver licensing, treatment, liquor law enforcement, business, medical, health care, advocacy groups, the media, institutions of higher education, and the military.

• Strategic Planning: Develop and implement an overall plan for short- and long-term impaired driving activities based on careful problem identification.

• Program Management: Establish procedures to ensure that program activities are implemented as intended.

• Resources: Allocate sufficient funding, staffing, and other resources to support impaired driving programs. Programs should aim for self-sufficiency and, to the extent possible, costs should be borne by impaired drivers.

• Data and Records: Establish and maintain a records system that uses data from other sources (e.g., U.S. Census, Fatality Analysis Reporting System [FARS], Crash Outcome Data Evaluation System [CODES]) to fully support the impaired driving program, and that is guided by a statewide traffic records coordinating committee (TRCC) that represents the interests of all public and private sector stakeholders and the wide range of disciplines that need the information.

• Communication Program: Develop and implement a comprehensive communications program that supports priority policies and program efforts and is directed at impaired driving; underage drinking; and reducing the risk of injury, death, and resulting medical, legal, social, and other costs.

II. Prevention

Prevention programs should aim to reduce impaired driving through public health approaches, including altering social norms, changing risky or dangerous behaviors, and creating safer environments. Prevention programs should promote communication strategies that highlight and support specific policies and program activities and promote activities that educate the public on the effects of alcohol and other drugs, limit the availability of alcohol and other drugs, and discourage those impaired by alcohol and other drugs from driving.

Prevention programs may include responsible alcohol service practices, transportation alternatives, and community-based programs carried out in schools, work sites, medical and health care facilities, and by community coalitions. Prevention efforts should be directed toward populations at greatest risk. Programs and activities should be science-based and proven effective and include a communication component. Each State should:

• Promote Responsible Alcohol Service: Promote policies and practices that prevent underage drinking by people under age 21 and over-service to people age 21 and older.

• Promote Transportation Alternatives: Promote alternative transportation programs, such as designated driver and safe ride programs, especially during high-risk times, which enable drinkers age 21 and older to reach their destinations without driving.

• Conduct Community-Based Programs: Conduct community-based programs that implement prevention strategies at the local level through a variety of settings, including schools, employers, medical and health care professionals, community coalitions and traffic safety programs.

○ Schools: School-based prevention programs, beginning in elementary school and continuing through college and trade school, should play a critical role in preventing underage drinking and impaired driving. These programs should be developmentally appropriate, relevant to at-risk populations and coordinated with drug prevention and health promotion programs.

○ Employers: States should provide information and technical assistance to employers and encourage employers to offer programs to reduce underage drinking and impaired driving by employees and their families.

○ Community Coalitions and Traffic Safety Programs: Community coalitions and traffic safety programs should provide the opportunity to conduct prevention programs collaboratively with other interested parties at the local level and provide communications toolkits for local media relations, advertising, and public affairs activities. Coalitions may include representatives of government such as highway safety; enforcement; criminal justice; liquor law enforcement; public health; driver licensing and education; business, including employers and unions; the military; medical, health care and treatment communities; at-risk, faith-based, advocacy and other community groups; and neighboring counties, as appropriate.

III. Criminal Justice System

Each State should use the various components of its criminal justice system—laws, enforcement, prosecution, adjudication, criminal and administrative sanctions, and communications—to achieve both specific and general deterrence.

Specific deterrence focuses on individual offenders and seeks to ensure that impaired drivers will be detected, arrested, prosecuted, and subject to swift, sure, and appropriate sanctions. Using these measures, the criminal justice system seeks to reduce recidivism. General deterrence seeks to increase the public perception that impaired drivers will face severe consequences, discouraging individuals from driving impaired.

A multidisciplinary approach and close coordination among all components of the criminal justice system are needed to make the system work effectively. In addition, coordination is needed among law enforcement agencies at the State, county, municipal, and Tribal levels to create and sustain both specific and general deterrence.

A. Laws

Each State should enact impaired driving laws that are sound, rigorous, and easy to enforce and administer. The laws should clearly define offenses, contain provisions that facilitate effective enforcement, and establish effective consequences. The laws should define offenses to include:

• Driving while impaired by alcohol or other drugs (whether illegal, prescription or over-the-counter) and treating both offenses similarly;

• Driving with a blood alcohol concentration (BAC) limit of .08 grams per deciliter, making it illegal “per se” to operate a vehicle at or above this level without having to prove impairment;

• Driving with a high BAC (i.e., .15 BAC or greater) with enhanced sanctions above the standard impaired driving offense;

• Zero Tolerance for underage drivers, making it illegal “per se” for people under age 21 to drive with any measurable amount of alcohol in their system (i.e., .02 BAC or greater);

• Repeat offender with increasing sanctions for each subsequent offense;

• BAC test refusal with sanctions at least as strict or stricter than a high BAC offense;

• Driving with a license suspended or revoked for impaired driving, with vehicular homicide or causing personal injury while driving impaired as separate offenses with additional sanctions;

• Open container laws, prohibiting possession or consumption of any open alcoholic beverage in the passenger area of a motor vehicle located on a public highway or right-of-way (limited exceptions are permitted under 23 U.S.C. 154 and its implementing regulations, 23 CFR part 1270); and

• Primary seat belt provisions that do not require that officers observe or cite a driver for a separate offense other than a seat belt violation.

The laws should include provisions to facilitate effective enforcement that:

• Authorize law enforcement to conduct sobriety checkpoints, (i.e., stop vehicles on a nondiscriminatory basis to determine whether operators are driving while impaired by alcohol or other drugs);

• Authorize law enforcement to use passive alcohol sensors to improve the detection of alcohol in drivers;

• Authorize law enforcement to obtain more than one chemical test from an operator suspected of impaired driving, including preliminary breath tests, evidential breath tests, and screening and confirmatory tests for alcohol or other impairing drugs; and

• Require law enforcement to conduct mandatory BAC testing of drivers involved in fatal crashes.

The laws should establish effective penalties that include:

• Administrative license suspension or revocation for failing or refusing to submit to a BAC or other drug test;

• Prompt and certain administrative license suspension of at least 90 days for first-time offenders determined by chemical test(s) to have a BAC at or above the State's “per se” level or of at least 15 days followed immediately by a restricted, provisional or conditional license for at least 75 days, if such license restricts the offender to operating only vehicles equipped with an ignition interlock;

• Enhanced penalties for BAC test refusals, high BAC, repeat offenders, driving with a suspended or revoked license, driving impaired with a minor in the vehicle, vehicular homicide, or causing personal injury while driving impaired, including longer license suspension or revocation; installation of ignition interlock devices; license plate confiscation; vehicle impoundment, immobilization or forfeiture; intensive supervision and electronic monitoring; and threat of imprisonment;

• Assessment for alcohol or other drug abuse problems for all impaired driving offenders and, as appropriate, treatment, abstention from use of alcohol and other drugs, and frequent monitoring; and

• Driver license suspension for people under age 21 for any violation of law involving the use or possession of alcohol or illicit drugs.

B. Enforcement

Each State should conduct frequent, highly visible, well publicized, and fully coordinated impaired driving (including zero tolerance) law enforcement efforts throughout the State, especially in locations where alcohol-related fatalities most often occur. To maximize visibility, States should maximize contact between officers and drivers using sobriety checkpoints and saturation patrols and should widely publicize these efforts—before, during, and after they occur. Highly visible, highly publicized efforts should be conducted periodically and also on a sustained basis throughout the year. To maximize resources, the State should coordinate efforts among State, county, municipal, and Tribal law enforcement agencies. States should utilize law enforcement liaisons for activities such as promotion of national and local mobilizations and increasing law enforcement participation in such mobilizations, and for collaboration with local chapters of police groups and other local impaired driving prevention associations to gain support for enforcement efforts.

Each State should coordinate efforts with liquor law enforcement officials. To increase the probability of detection, arrest, and prosecution, participating officers should receive training in the latest law enforcement techniques, including Standardized Field Sobriety Testing, and selected officers should receive training in media relations and Drug Evaluation and Classification (DEC).

C. Publicizing High Visibility Enforcement

Each State should communicate its impaired driving law enforcement efforts and other elements of the criminal justice system to increase the public perception of the risks of detection, arrest, prosecution and sentencing for impaired driving. Each State should develop and implement a year-round communications plan that provides emphasis during periods of heightened enforcement, provides sustained coverage throughout the year, includes both paid and earned media, and uses messages consistent with national campaigns. Publicity should be appropriate to the audience and based on market research.

D. Prosecution

States should implement a comprehensive program to visibly, aggressively, and effectively prosecute and publicize impaired-driving-related efforts, including use of experienced prosecutors (e.g., traffic safety resource prosecutors), to help coordinate and deliver training and technical assistance to prosecutors handling impaired driving cases throughout the State.

E. Adjudication

States should impose effective, appropriate, and research-based sanctions, followed by close supervision and the threat of harsher consequences for non-compliance when adjudicating cases. Specifically, DWI courts should be used to reduce recidivism among repeat and high-BAC offenders. DWI courts involve all criminal justice stakeholders (prosecutors, defense attorneys, probation officers, and judges) along with alcohol and drug treatment professionals and use a cooperative approach to systematically change participant behavior. The effectiveness of enforcement and prosecution efforts are strengthened by knowledgeable, impartial, and effective adjudication. Each State should provide state-of-the-art education to judges, covering SFST, DEC, alternative sanctions, and emerging technologies.

Each State should utilize DWI courts to help improve case management and to provide access to specialized personnel, speeding up disposition and adjudication. DWI courts also increase access to testing and assessment to help identify DWI offenders with addiction problems and to help prevent them from re-offending. DWI courts additionally help with sentence monitoring and enforcement. Each State should provide adequate staffing and training for probation programs with the necessary resources, including technological resources, to monitor and guide offender behavior.

F. Administrative Sanctions and Driver Licensing Programs

States should use administrative sanctions, including the suspension or revocation of an offender's driver's license; the impoundment, immobilization or forfeiture of a vehicle; the impoundment of a license plate; or the use of ignition interlock devices, which are among the most effective actions to prevent repeat impaired driving offenses. In addition, other licensing activities can prove effective in preventing, deterring and monitoring impaired driving, particularly among novice drivers. Publicizing related efforts is part of a comprehensive communications program.

• Administrative License Revocation and Vehicle Sanctions: Each State's Motor Vehicle Code should authorize the imposition of administrative penalties by the driver licensing agency upon arrest for violation of the State's impaired driving laws, including administrative driver's license suspension, vehicle sanctions and installation of ignition interlock devices.

• Programs: Each State's driver licensing agency should conduct programs that reinforce and complement the State's overall program to deter and prevent impaired driving, including graduated driver licensing (GDL) for novice drivers, education programs that explain alcohol's effects on driving, the State's zero-tolerance laws, and a program to prevent individuals from using a fraudulently obtained or altered driver's license.

IV. Communication Program

States should develop and implement a comprehensive communication program that supports priority policies and program efforts. Communication programs and material should be designed to reach at-risk populations and be provided in languages other than English as appropriate. States should:

• Develop and implement a year-round communication plan that includes policy and program priorities; comprehensive research; behavioral and communications objectives; core message platforms; campaigns that are audience-relevant and linguistically appropriate; key alliances with private and public partners; specific activities for advertising, media relations, and public affairs; special emphasis periods during high-risk times; and evaluation and survey tools;

• Employ a communications strategy principally focused on increasing knowledge and awareness, changing attitudes, and influencing and sustaining appropriate behavior;

• Use traffic-related data and market research to identify specific audience segments to maximize resources and effectiveness; and

• Adopt a comprehensive marketing approach that coordinates elements like media relations, advertising, and public affairs/advocacy.

V. Alcohol and Other Drug Misuse: Screening, Assessment, Treatment and Rehabilitation

Impaired driving frequently is a symptom of a larger alcohol or other drug problem. Many first-time impaired driving offenders and most repeat offenders have alcohol or other drug abuse or dependency problems. Without appropriate assessment and treatment, these offenders are more likely to repeat their crimes.

In addition, alcohol use leads to other injuries and health care problems. Frequent visits to emergency departments present an opportunity for intervention, which might prevent future arrests or motor vehicle crashes, and result in decreased alcohol consumption and improved health.

Each State should encourage its employers, educators, and health care professionals to implement a system to identify, intervene, and refer individuals for appropriate substance abuse treatment.

• Screening and Assessment: Each State should encourage its employers, educators, and health care professionals to have a systematic program to screen and/or assess drivers to determine whether they have an alcohol or drug abuse problem and, as appropriate, briefly intervene or refer them for appropriate treatment. A marketing campaign should promote year-round screening and brief intervention to medical, health, and business partners and to identified audiences. In particular:

○ Criminal Justice System: Within the criminal justice system, people convicted of an impaired driving offense should be assessed to determine whether they have an alcohol or drug abuse problem and whether they need treatment. The assessment should be required by law and completed prior to sentencing or reaching a plea agreement.

○ Medical and Health Care Settings: Within medical or health care settings, any adults or adolescents seen by medical or health care professionals should be screened to determine whether they may have an alcohol or drug abuse problem. A person may have a problem with alcohol abuse or dependence, a brief intervention should be conducted and, if appropriate, the person should be referred for assessment and further treatment.

• Treatment and Rehabilitation: Each State should work with health care professionals, public health departments, and third-party payers to establish and maintain treatment programs for persons referred through the criminal justice system, medical or health care professionals, and other entities. This will help ensure that offenders with alcohol or other drug dependencies begin appropriate treatment and complete recommended treatment before their licenses are reinstated.

• Monitoring Impaired Drivers: Each State should establish a program to facilitate close monitoring of impaired drivers. Controlled input and access to an impaired driver tracking system, with appropriate security protections, is essential. Monitoring functions should be housed in the driver licensing, judicial, corrections, and treatment systems. Monitoring systems should be able to determine the status of all offenders in meeting their sentencing requirements for sanctions and/or rehabilitation and must be able to alert courts to noncompliance. Monitoring requirements should be established by law to assure compliance with sanctions by offenders and responsiveness of the judicial system. Noncompliant offenders should be handled swiftly either judicially or administratively. Many localities are successfully utilizing DWI courts or drug courts to monitor DWI offenders.

VI. Program Evaluation and Data

Each State should have access to and analyze reliable data sources for problem identification and program planning. Each State should conduct several different types of evaluations to effectively measure progress, to determine program effectiveness, to plan and implement new program strategies, and to ensure that resources are allocated appropriately.

Each State should establish and maintain a records system that uses data from other sources (e.g., U.S. Census, FARS, CODES) to fully support the impaired driving program. A statewide traffic records coordinating committee that represents the interests of all public and private sector stakeholders and the wide range of disciplines that need the information should guide the records system.

• Each State's driver licensing agency should maintain a system of records that enables the State to: (1) identify impaired drivers; (2) maintain a complete driving history of impaired drivers; (3) receive timely and accurate arrest and conviction data from law enforcement agencies and the courts, including data on operators as prescribed by the commercial driver licensing regulations; and (4) provide timely and accurate driver history records to law enforcement and the courts.

Highway Safety Program Guideline No. 12 Prosecutor Training (March 2025)

Each State, in cooperation with its political subdivisions and Tribal governments, should develop and implement a comprehensive highway safety program, reflective of State traffic safety needs, as identified by the data, to achieve a significant reduction in traffic crashes, fatalities, and injuries on public roads. All programs should include a comprehensive prosecutorial training program that supports prosecutors in the prosecution of traffic-related cases. Prosecutorial training programs should be consistent with ethical and professional requirements in addition to addressing training and technical assistance needs. These programs should encourage prosecutors to make the prosecution of traffic-related cases a high priority. This guideline describes the key components that a State program should include and the minimum criteria that the program components should meet. Additional information on prosecutor outreach is addressed in Highway Safety Guideline No. 8, Impaired Driving.

I. Program Management

Program planning, implementation, and coordination are essential for achieving and sustaining high-quality State traffic enforcement and prosecution functions. The State Highway Safety Office (SHSO), in conjunction with State prosecutor associations, Prosecutor Coordinators, and Traffic Safety Resource Prosecutors (TSRP) should ensure that State traffic safety programs are comprehensive, well planned, and coordinated. State SHSOs should provide leadership, training, and technical assistance to their State's prosecutors. In doing so, the SHSOs should:

• Communicate and coordinate with State prosecutor coordinators and TSRPs regarding comprehensive highway safety plans for traffic enforcement so they can generate broad-based prosecutorial support for traffic safety programs;

• Assist State prosecutor coordinators and TSRPs in implementing regular traffic law and safety-related prosecutor training programs;

• Provide support and assistance to State prosecutor coordinators and TSRPs for training and technical assistance that prosecutors need to effectively prosecute impaired driving and other traffic-related cases; and

• Evaluate the delivery of training and technical assistance through established qualitative and quantitative measures.

II. Resource Management

The SHSO should encourage prosecutors to develop plans that identify those resources necessary to provide efficient traffic law-related services that include:

• Periodic assessment of traffic law-related service demands, and the resources needed to serve the needs of prosecution and the public.

• Development of traffic law-related prosecutor resource management plans that address budgetary requirements, staff allocation, and facilities requirements.

• Employment of efficient accounting and data processing systems to facilitate prompt and accurate generation, retrieval, and sharing of information and records.

II. Training and Technical Assistance

Training and technical assistance are essential to support the delivery of high-quality traffic law-related prosecution. To effectively serve the needs of law enforcement, victims, and the public, prosecutors must receive regular, consistent training and have available to them individuals who can provide technical assistance in a competent and efficient manner. To this end, the SHSO should:

• Encourage the implementation of the TSRP program;

• Provide Prosecutor Coordinators and TSRPs with advanced education and training in the area of traffic-related law and procedure so as to enhance delivery of training and technical assistance to local prosecutors, law enforcement officers, advocacy groups, and other traffic safety professionals;

• Assist and support prosecutor coordinators in providing traffic law and safety-related training programs to the State's prosecutors;

• Include development and delivery of specialized curriculum to address the needs of both experienced and inexperienced prosecutors handling complex impaired-driving and other traffic prosecutions;

• Encourage consistent training and technical assistance through the prosecutor coordinators to address high turnover rates in prosecutor offices; and

• Include case management components to foster prompt and effective prosecution of traffic cases.

IV. Data and Evaluation

The SHSO, in conjunction with the prosecutor coordinator and the TSRP, should develop a comprehensive evaluation program to measure progress toward established project goals and objectives. Using comprehensive evaluation strategies, the SHSO should effectively plan and implement statewide, county, and local traffic safety training programs. Collected data should include training programs attended, technical assistance requested and received, and other workload information. The evaluation results should be used to maximize limited resources and measure the impact of such training and assistance on prosecutorial resources and the ability to effectively prosecute traffic cases. The SHSO should make sure that Prosecutor Coordinators or TSRPs:

• Include evaluation components in initial program planning to ensure that data will be available for analysis;

• Ensure that adequate resources and personnel are allocated to program planning and data collection;

• Regularly report results of program evaluations to project managers, program managers, and legislative decision-makers;

• Utilize results to guide future activities and assess resource allocation; and

• Evaluate the effectiveness of services provided in support of priority traffic safety programs.

Highway Safety Program Guideline No. 20 Occupant Protection (March 2025)

Each State, in cooperation with its political subdivisions, Tribal governments, and other parties as appropriate, should develop and implement a comprehensive highway safety program, reflective of State traffic safety needs as identified by the data, to achieve a significant reduction in traffic crashes, fatalities, and injuries on public roads. The highway safety program should include a comprehensive occupant protection program that educates and motivates the public to properly use available motor vehicle occupant protection systems. A combination of legislation and use requirements, enforcement, communication, education, and incentive strategies is necessary to achieve significant, lasting increases in seat belt and child safety seat usage. This guideline describes the components that a State occupant protection program should include and the criteria that the program components should meet.

I. Program Management

Each State should have centralized program planning, implementation, and coordination to achieve and sustain high rates of seat belt use. Evaluation should be used to revise existing programs, develop new programs and determine progress and success. The State Highway Safety Office (SHSO) should:

• Provide leadership, training and technical assistance to other State agencies and local occupant protection programs and projects;

• Establish and convene an occupant protection advisory task force or coalition to organize and generate broad-based support for programs. The coalition should include agencies and organizations that represent at-risk populations and are critical to the implementation of occupant protection initiatives;

• Integrate occupant protection programs into community/corridor traffic safety and other injury prevention programs; and

• Evaluate the effectiveness of the State's occupant protection program.

II. Legislation, Regulation and Policy

Each State should enact and enforce occupant protection use laws, regulations, and policies to provide clear guidance to the public concerning motor vehicle occupant protection systems. This legal framework should include:

• Legislation permitting primary enforcement that requires all motor vehicle occupants to use systems provided by the vehicle manufacturer;

• Legislation permitting primary enforcement that requires that children from birth to 16 years old (or the State's driving age) be properly restrained in an appropriate child restraint system (i.e., certified by the manufacturer to meet all applicable Federal safety standards) or seat belt;

• Legislation permitting primary enforcement that requires children under 13 years old to be properly restrained in the rear seat (unless all available rear seats are occupied by younger children);

• Graduated driver licensing laws that include three stages of licensure, and that place restrictions and sanctions on high-risk driving situations for novice drivers (i.e., nighttime driving restrictions, passenger restrictions, zero tolerance, required seat belt use);

• Regulations requiring employees and contractors at all levels of government to wear safety belts when traveling on official business;

• Official policies requiring that organizations receiving Federal highway safety program grant funds develop and enforce an employee seat belt use policy; and

• Encouragement to motor vehicle insurers to offer economic incentives for policyholders who wear seat belts and secure children in child safety seats or other appropriate restraints.

III. Enforcement Program

Each State should conduct frequent, high-visibility law enforcement efforts, coupled with communication strategies, to increase seat belt and child safety seat use. Essential components of a law enforcement program include:

• Written, enforced seat belt use policies for law enforcement agencies with sanctions for noncompliance to protect law enforcement officers from harm and for officers to serve as role models for the motoring public;

• Vigorous enforcement of seat belt and child safety seat laws, including citations and warnings;

• Accurate reporting of occupant protection system information on police accident report forms, including seat belt and child safety seat use or nonuse, restraint type, and air bag presence and deployment;

• Communication campaigns to inform the public about occupant protection laws and related enforcement activities;

• Routine monitoring of citation rates for nonuse of seat belts and child safety seats;

• Use of National Child Passenger Safety Certification (basic and in-service) for law enforcement officers; and

• Utilization of law enforcement liaisons, for activities such as promotion of national and local mobilizations and increasing law enforcement participation in such mobilizations and collaboration with local chapters of police groups and associations that represent at-risk populations to gain support for enforcement efforts.

IV. Communication Program

As part of each State's communication program, the State should enlist the support of a variety of media, including mass media, to improve public awareness and knowledge and to support enforcement efforts about seat belts, air bags, and child safety seats. Communication programs and materials should be designed to reach at-risk populations, as appropriate. To sustain or increase rates of seat belt and child safety seat use, a well-organized, effectively managed communication program should:

• Identify at-risk audiences (e.g., low-belt-use, high-risk motorists) and develop messages appropriate for these audiences;

• Address the enforcement of the State's seat belt and child passenger safety laws; the safety benefits of regular, correct seat belt (both manual and automatic) and child safety seat use; and the additional protection provided by air bags;

• Capitalize on special events, such as nationally recognized safety and injury prevention weeks and local enforcement campaigns;

• Provide material and media campaigns in more than one language as necessary;

• Use national themes and material;

• Participate in national programs to increase seat belt and child safety seat use and use law enforcement as the State's contribution to obtaining national public awareness through concentrated, simultaneous activity;

• Utilize paid media, as appropriate;

• Publicize seat belt use surveys and other relevant statistics;

• Encourage news media to report seat belt use and nonuse in motor vehicle crashes;

• Involve media representatives in planning and disseminating communication campaigns;

• Encourage private sector groups to incorporate seat belt use messages into their media campaigns;

• Utilize and involve all media outlets: television, radio, print, signs, billboards, theaters, sports events, health fairs; and

• Evaluate all communication campaign efforts.

V. Occupant Protection for Children Program

Each State should enact occupant protection laws that require the correct restraint of all children, in all seating positions and in every vehicle. Regulations and policies should exist that provide clear guidance to the motoring public concerning occupant protection for children. Each State should require that children from birth to 16 years old (or the State's driving age) be properly restrained in the appropriate child restraint system or seat belt. Gaps in State child passenger safety and seat belt laws should be closed to ensure that all children are covered in all seating positions, with requirements for age-appropriate child restraint use. Key provisions of the law should include: driver responsibility for ensuring that children are properly restrained; proper restraint of children under 13 years of age in the rear seat (unless all available rear seats are occupied by younger children); a requirement that passengers be in designated seating positions, a ban on passengers in the cargo areas of light trucks; and a limit on the number of passengers based on the number of available seat belts in the vehicle. To achieve these objectives, State occupant protection programs for children should:

• Collect and analyze key data elements in order to evaluate the program progress;

• Assure that adequate and accurate training is provided to the professionals who deliver and enforce the occupant protection programs for parents and caregivers;

• Assure that the capability exists to train and retain nationally certified child passenger safety technicians to address attrition of trainers or changes in the population;

• Promote the use of child restraints and assure that a plan has been developed to provide an adequate number of inspection stations and clinics, which meet minimum quality criteria;

• Continue programs and activities to increase the use of booster seats by children who outgrow infant or convertible child safety seats but are still too small to safely use seat belts.

• Maintain a strong law enforcement program that includes vigorous enforcement of the child occupant protection laws;

• Enlist the support of the media to increase public awareness about child occupant protection laws and the use of child restraints. Strong efforts should be made to reach at-risk populations;

• Assure that the child occupant protection programs at the local level are periodically assessed and that programs are designed to meet the unique needs of the community;

• Establish the infrastructure to systematically coordinate the array of child occupant protection program components;

• Encourage law enforcement participation in the National Child Passenger Safety Certification (basic and in-service) training for law enforcement officers; and

• Consider carefully crafted and administered child safety seat subsidy and/or give-away programs.

VI. Outreach Program

Each State should encourage extensive statewide and community involvement in occupant protection education by involving individuals and organizations outside the traditional highway safety community. Representation from the health, business, and education sectors, and from communities throughout the State, should be encouraged. Community involvement should broaden public support for the State's programs and increase a State's ability to deliver highway safety education programs. To encourage statewide and community involvement, States should:

• Establish a coalition or task force of individuals and organizations to actively promote use of occupant protection systems;

• Create an effective communications network among coalition members to keep members informed about issues;

• Provide relevant material and resources necessary to conduct occupant protection education programs, especially directed toward young people, in local settings; and

• Provide material and resources necessary to conduct occupant protection education programs, especially for programs directed toward at-risk populations as indicated by the data.

States should undertake a variety of outreach programs to achieve statewide and community involvement in occupant protection education, as described below. Programs should include outreach to at-risk populations, health and medical communities, schools, and employers.

A. At-Risk Populations

Each State should work closely with individuals and organizations that represent at-risk populations identified by traffic safety data. Community leaders and representatives from community groups and organizations will help States to increase the use of child safety seats and seat belts. The State should:

• Evaluate the need for, and provide, if necessary, material and resources in multiple languages;

• Collect and analyze data on fatalities and injuries to identify at-risk populations;

• Ensure representation of at-risk populations on State occupant protection coalitions and other work groups;

• Provide guidance to grantees on conducting outreach programs designed to reach at-risk populations;

• Utilize leaders from at-risk populations as spokespeople to promote seat belt use and child safety seats; and

• Conduct outreach efforts to at-risk populations during law enforcement mobilization periods.

B. Health and Medical Communities

Each State should integrate occupant protection into health programs. The failure of drivers and passengers to use occupant protection systems is a major public health problem that must be recognized by the medical and health care communities. The SHSO, the State Health Department, and other State or local medical organizations should collaborate in developing programs that:

• Integrate occupant protection into professional health training curricula and comprehensive public health planning;

• Promote occupant protection systems as a health promotion/injury prevention measure;

• Require public health and medical personnel to use available motor vehicle occupant protection systems during work hours;

• Provide technical assistance and education about the importance of motor vehicle occupant protection to primary caregivers (e.g., doctors, nurses, clinic staff);

• Include questions about seat belt use in health risk appraisals;

• Utilize health care providers as visible public spokespeople for seat belt use and child safety seat use;

• Provide information about the availability of child safety seats at, and integrate child safety seat inspections into, maternity hospitals and other prenatal and natal care centers; and

• Collect, analyze, and publicize data on additional injuries and medical expenses resulting from nonuse of occupant protection devices.

C. Schools

Each State should encourage local school boards and educators to incorporate occupant protection education into school curricula. The SHSO in cooperation with the State Department of Education should:

• Ensure that highway safety and traffic-related injury control, in general, and occupant protection, in particular, are included in the State-approved K-12 health and safety education curricula and textbooks;

• Establish and enforce written policies requiring that school employees use seat belts when operating a motor vehicle on the job;

• Encourage active promotion of regular seat belt use through classroom and extracurricular activities as well as in school-based health clinics;

• Work with school resource officers to promote seat belt use among high school students; and

• Establish and enforce written school policies that require students driving to and from school to wear seat belts. Violation of these policies should result in revocation of parking or other campus privileges for a stated period of time.

D. Employers

Each State and local subdivision should encourage all employers to require seat belt use on the job as a condition of employment. Private sector employers should follow the lead of Federal and State government employers and comply with Executive Order 13043, “Increasing Seat Belt Use in the United States,” as well as all applicable Federal Motor Carrier Safety Administration regulations or Occupational Safety and Health Administration guidance regarding use of seat belts by private business employees on the job. All employers should:

• Establish and enforce a seat belt use policy with sanctions for nonuse; and

• Conduct occupant protection education programs for employees on their seat belt use policies and the safety benefits of motor vehicle occupant protection devices.

VII. Data and Program Evaluation

Each State should access and analyze reliable data sources for problem identification and program planning. Each State should conduct several different types of evaluation to effectively measure progress and to plan and implement new program strategies. Program management should:

• Conduct and publicize at least one statewide observational survey of seat belt and child safety seat use annually, ensuring that it meets current, applicable Federal guidelines;

• Maintain trend data on child safety seat use, seat belt use, and air bag deployment in fatal crashes;

• Identify at-risk populations through observational usage surveys and crash data;

• Conduct and publicize statewide surveys of public knowledge and attitudes about occupant protection laws and systems;

• Obtain monthly or quarterly data from law enforcement agencies on the number of seat belt and child passenger safety citations and convictions;

• Evaluate the use of program resources and the effectiveness of existing general communication as well as special/high-risk population education programs;

• Obtain data on morbidity, as well as the estimated cost of crashes, and determine the relation of injury to seat belt use and nonuse; and

• Ensure that evaluation results are an integral part of new program planning and problem identification.

(Authority: 23 U.S.C. 402; 49 CFR 1.95)

Issued in Washington, DC.
Peter Simshauser,
Chief Counsel.

[FR Doc. 2025-09990 Filed 6-2-25; 8:45 am]

BILLING CODE 4910-59-P